NATIONAL ARCHIVES AND RECORDS ADMINISTRATION

[NARA-2026-007]

Freedom of Information Act (FOIA) Advisory Committee Meeting

AGENCY: Office of Government Information Services (OGIS), National Archives and Records Administration (NARA).

ACTION: Notice of Federal advisory committee meetings.

SUMMARY: We are announcing five upcoming Freedom of Information Act (FOIA) Advisory Committee meetings in accordance with the Federal Advisory Committee Act and the second United States Open Government National Action Plan.

DATES: The meetings will be on Thursday, March 5, 2026; Thursday, April 2, 2026; Thursday, May 7, 2026; Thursday, June 11, 2026; and Thursday, July 16, 2026 from 10:00 a.m. to 1:00 p.m. Eastern Time (ET). You must register to attend. (See registration information below.)

ADDRESSES: These meetings will be virtual. We will send access instructions for the meetings to those who register according to the instructions below.

FOR FURTHER INFORMATION CONTACT: Kirsten Mitchell, Designated Federal Officer for this committee, by email at foia-advisory-committee@nara.gov, or by telephone at 202.741.5770.

SUPPLEMENTARY INFORMATION: These meetings will be the final five of the sixth term of the 2024-2026 FOIA Advisory Committee. The purpose of the March 5, April 7, May 7 and June 11 meetings will be to consider and possibly vote on draft recommendations from the three subcommittees: Implementation, Statutory Reform, and Volume and Frequency. The purpose of the July 16 meeting, the final of the 2024-2026 term, will be to consider the Committee's final draft report and recommendations.

Procedures: These meetings are open to the public in accordance with the Federal Advisory Committee Act, (5 U.S.C. 1001-1014). If you wish to offer oral public comments during the public comments periods of the meetings, you must register in advance.

(1) https://www.zoomgov.com/webinar/register/WN_UIco0gMLQ7udQnPRaDTKzg for the March 5, 2026 meeting;

(2) https://www.zoomgov.com/webinar/register/WN_myh7wfVOQU2xDwkmp8afEg for the April 2, 2026 meeting;

(3) https://www.zoomgov.com/webinar/register/WN_q-evvGWaQZKWW8k3Y5Jclw for the May 7, 2026 meeting;

(4) https://www.zoomgov.com/webinar/register/WN_wovn0drVTiGgMYwJXSc09w for the June 11, 2026 meeting; and

(5) https://www.zoomgov.com/webinar/register/WN_DVjl0DkwT96otgBjXQ9VTQ for the July 16, 2026 meeting.

You will be provided with information to access the meeting online. Public comments will be limited to three minutes per individual. Written public comments may be submitted at any time to https://www.archives.gov/ogis/public-comments and will be posted if they meet OGIS's posting policy. We will also live-stream the meeting on the National Archives YouTube channel, https://www.youtube.com/user/usnationalarchives, and include a captioning option. To request additional accommodations, email foia-advisory-committee@nara.gov or call 202.741.5770. Those who are unable to register online, and those who require special accommodations, should contact Kirsten Mitchell (contact information listed above).

Merrily Harris,
Committee Management Officer.

[FR Doc. 2026-03243 Filed 2-18-26; 8:45 am]

BILLING CODE 7515-01-P